DEPARTMENT OF ENERGY

Federal Energy Regulatory Commission

[Project No. 803-129]

Pacific Gas and Electric Company; Notice of Application for Temporary Variance of Flow Requirements Accepted for Filing and Soliciting Comments, Motions To Intervene, and Protests

Take notice that the following hydroelectric application has been filed with the Commission and is available for public inspection:

a. Application Type: Application for Temporary Variance of Flow Requirements.

b. Project No: 803-129.

c. Date Filed: February 6, 2026.

d. Applicant: Pacific Gas and Electric Company (licensee).

e. Name of Project: DeSabla-Centerville Project.

f. Location: The project is located on Butte Creek, West Branch Feather River, and their tributaries in Butte County, California. The project occupies federal lands managed by the U.S. Forest Service and Bureau of Land Management.

g. Filed Pursuant to: Federal Power Act, 16 U.S.C. 791a-825r.

h. Applicant Contact: Mr. Sky Ramirez-Doble, License Coordinator, Pacific Gas and Electric Company, P.O. Box 28209, Oakland, CA 94604, (530) 250-7002.

i. FERC Contact: Joy Kurtz, (202) 502-6760, joy.kurtz@ferc.gov.

j. Cooperating agencies: With this notice, the Commission is inviting federal, state, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: March 30, 2026 5:00 p.m. Eastern Time.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include the docket number P-803-129. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The licensee requests a temporary variance of the instantaneous minimum flow requirements in the West Branch Feather River below Hendricks Head Dam and in Philbrook Creek below Philbrook Reservoir. Specifically, the licensee requests that the instantaneous minimum flow requirement in the West Branch Feather River of 15 cubic feet per second (cfs) in a normal water year and 7 cfs in a dry water year, be temporarily modified to 7 cfs over 48 hours regardless of water year type (the water year type has not yet been determined). In Philbrook Creek, it requests that the instantaneous minimum flow requirement of 2 cfs in both normal and dry water years be temporarily modified to between 1 and 2 cfs over 48 hours. The modifications would begin on May 4, 2026, and continue through September 30, 2026, with one potential exception. That is, in the event that water storage in Philbrook Reservoir has not exceeded 2,116 acre-feet by April 1, 2026, the licensee would commence modifications in Philbrook Creek sometime between April 1, 2026 and May 4, 2026, if supported by the California Department of Fish and Wildlife, National Marine Fisheries Service, and the U.S. Fish and Wildlife Service (resource agencies)). The licensee states that the temporary variance would maximize the delivery of flows released from Philbrook to Butte Creek by eliminating the need to release additional buffer flows to ensure the requisite instantaneous minimum instream flows are always met. The proposed variance would help preserve cold water storage in Philbrook Reservoir, increase flow to Butte Creek via the Hendricks Canal, and decrease water residence time in the DeSabla Forebay, thus providing additional water to Butte Creek during the hot summer months to minimize high temperature effects to Central Valley spring-run Chinook salmon, and to preserve water for release later in the summer months towards the end of their holding period when the situation is most critical. Decisions on when and how to implement variance flows, as well as any changes under the variance, will be made in consultation and proceed with concurrence of licensee staff and the resource agencies.

m. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

q. For public inquiries and assistance with making filings such as interventions, comments, or requests for rehearing, contact the Office of Public Participation at (202)502-6595 or OPP@ferc.gov.

(Authority: 18 CFR 2.1)

Dated: February 26, 2026.
Debbie-Anne A. Reese,
Secretary.

[FR Doc. 2026-04191 Filed 3-2-26; 8:45 am]

BILLING CODE 6717-01-P